DEPARTMENT OF COMMERCE

International Trade Administration

[A-570-918]

Steel Wire Garment Hangers From the People's Republic of China; 2016-2017; Partial Rescission of the Ninth Antidumping Duty Administrative Review

AGENCY: Enforcement and Compliance, International Trade Administration, Department of Commerce.

SUMMARY: On December 7, 2017, the Department of Commerce (Commerce) published a notice of initiation of an administrative review of the antidumping duty order on steel wire garment hangers from the People's Republic of China (China). Based on M&B Metal Products Co., Ltd.'s (the petitioner) timely withdrawal of the requests for review of certain companies, we are now rescinding this administrative review for the period October 1, 2016, through September 30, 2017, with respect to 17 companies.

DATES: Applicable April 26, 2018.

FOR FURTHER INFORMATION CONTACT: Christian Llinas, AD/CVD Operations, Office V, Enforcement and Compliance, International Trade Administration, U.S. Department of Commerce, 1401 Constitution Avenue NW, Washington, DC 20230; telephone (202) 482-4877.

Background

On October 4, 2017, Commerce published a notice of “Opportunity to Request Administrative Review” of the antidumping order on steel wire garment hangers from China.¹ In October 2017, Commerce received timely requests to conduct administrative reviews of the antidumping duty order on steel wire garment hangers from China from the petitioner and Shanghai Wells Hanger Co., Ltd., and its two affiliates.² Based upon these requests, on December 7, 2017, Commerce published a notice of initiation of an administrative review of the order covering the period October 1, 2016, to September 30, 2017.³ Commerce initiated the administrative review with respect to 20 companies.⁴ On December 18, 2017, the petitioner withdrew its request for an administrative review of 17 companies.⁵

¹ See Antidumping or Countervailing Duty Order, Finding, or Suspended Investigation; Opportunity to Request Administrative Review, 82 FR 46217 (October 4, 2017).

² See the petitioner's letter, “Steel Wire Garment Hangers from the People's Republic of China: Review Request,” dated October 25, 2017; See Shanghai Wells' letter, “Steel Wire Garment Hangers from the People's Republic of China: Review Request,” dated October 31, 2017. In the first administrative review of the Order, Commerce found that Shanghai Wells Hanger Co., Ltd. and Hong Kong Wells Ltd. (collectively Shanghai Wells) are a single entity. See Steel Wire Garment Hangers from the People's Republic of China: Preliminary Results and Preliminary Rescission, in Part, of the First Antidumping Duty Administrative Review, 75 FR 68758, 68761 (November 9, 2010), unchanged in First Administrative Review of Steel Wire Garment Hangers from the People's Republic of China: Final Results and Final Partial Rescission of Antidumping Duty Administrative Review, 76 FR 27994, 27996 (May 13, 2011).

³ See Initiation of Antidumping and Countervailing Duty Administrative Reviews, 82 FR 57705 (December 7, 2017).

⁴ Id.

⁵ See the petitioner's letter, “Re: Ninth Administrative Review of Steel Wire Garment Hangers from China- Petitioner's Withdrawal of Review Requests for Specific Companies” dated December 18, 2017.

Partial Rescission

Pursuant to 19 CFR 351.213(d)(1), the Secretary will rescind an administrative review, in whole or in part, if a party who requested the review withdraws the request within 90 days of the date of publication of notice of initiation of the requested review. The petitioner timely withdrew its review request, in part, and no other party requested a review of the companies for which the petitioner requested a review. Out of the 18 companies for which the petitioner requested an administrative review, the petitioner withdrew its requests for review of 17 companies, which are listed in the Appendix to this notice.⁶ Accordingly, we are rescinding this review of steel wire garment hangers from China for the period October 1, 2016, through September 30, 2017, in part, with respect to these entities, in accordance with 19 CFR 351.213(d)(1).

⁶ As stated in Change in Practice in NME Reviews, Commerce will no longer consider the non-market economy (NME) entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013).

This administrative review will continue with respect to Shanghai Wells.

Assessment

Commerce will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). Commerce intends to issue appropriate assessment instructions directly to CBP 15 days after publication of this notice.

Notification to Importers

This notice serves as the only reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751 and 777(i)(l) of the Tariff Act of 1930, as amended, and 19 CFR 351.213(d)(4).

Dated: April 19, 2018.
James Maeder,
Associate Deputy Assistant Secretary for Antidumping and Countervailing Duty Operations performing the duties of Deputy Assistant Secretary for Antidumping and Countervailing Duty Operations.

APPENDIX

1. Da Sheng Hanger Ind. Co., Ltd.

2. Hangzhou Qingqing Mechanical Co. Ltd.

3. HangZhou Yingqing Material Co. Ltd.

4. Hangzhou Yinte.

5. Shanghai Guoxing Metal Products Co. Ltd.

6. Shanghai Jianhai International Trade Co. Ltd.

7. Shangyu Baoxiang Metal Manufactured Co. Ltd.

8. Shaoxing Andrew Metal Manufactured Co. Ltd.

9. Shaoxing Dingli Metal Clotheshorse Co. Ltd.

10. Shaoxing Gangyuan Metal Manufactured Co. Ltd.

11. Shaoxing Guochao Metallic Products Co., Ltd.

12. Shaoxing Liangbao Metal Manufactured Co. Ltd.

13. Shaoxing Meideli Hanger Co. Ltd.

4. Shaoxing Shunji Metal Clotheshorse Co., Ltd.

15. Shaoxing Tongzhou Metal Manufactured Co. Ltd.

16. Shaoxing Zhongbao Metal Manufactured Co. Ltd.

17. Zhejiang Lucky Cloud Hanger Co. Ltd.

[FR Doc. 2018-08656 Filed 4-25-18; 8:45 am]

BILLING CODE 3510-DS-P